POSTAL SERVICE

39 CFR Part 111

Domestic Mail Manual Changes To Clarify the Method Used To Determine Postal Zones

AGENCY: Postal Service.

ACTION: Final rule.

SUMMARY: This final rule amends Domestic Mail Manual (DMM) G030 to clarify the language describing the method used by the Postal Service to determine postal zones. This final rule is effective with the implementation date of the Docket No. R2001-1 omnibus rate case on June 30, 2002. On that date, the Postal Service will update zone chart coordinates for all 3-digit ZIP Code prefixes in L005, Column A, that do not match the corresponding coordinates for L005, Column B.

EFFECTIVE DATE: This final rule is effective at 12:01 a.m. on June 30, 2002.

FOR FURTHER INFORMATION CONTACT: John Boyce, 901-681-4525.

SUPPLEMENTARY INFORMATION: On March 7, 2002, the Postal Service published a proposed rule in the Federal Register (67 FR 10340) for the purpose of clarifying the language in DMM G030 which describes the method used to determine postal zones 1 through 8. This clarification would not change the method used to calculate postal zones.

As information, postal rates for certain subclasses of mail are based on the weight of the individual piece and the distance that the piece travels from origin to destination (i.e., the number of postal zones crossed). For the administration of the system of postal zones, the sphere of the earth is geometrically divided into units of area 30 minutes square, identical with a quarter of the area formed by the intersecting parallels of latitude and meridians of longitude. Postal zones are based on the distance between these units of area. The distance is measured from the center of the unit of area containing the sectional center facility (SCF) serving the origin Post Office to the SCF serving the destination Post Office. The SCF serving the origin and destination Post Offices are determined by the appropriate SCF in L005, Column B.

In the March 7, 2002, proposed rule, the Postal Service solicited comments on the implementation date for this revision. During the 30-day comment period, the Postal Service received no comments on the proposed rulemaking.

Therefore, effective June 30, 2002, the longitude and latitude of 130 3-digit ZIP Code prefixes for SCF coordinates in L005, Column A, will be updated to reflect the parent SCF in L005, Column B. This update will align the 3-digit ZIP Code prefixes with current postal processing and distribution networks. To accommodate the small number of 3-digit ZIP Code prefixes for military post offices (MPOs) that are not listed in L005, the Postal Service will add a new table to DMM G030.1.2. The information in DMM G030.1.3 regarding the available formats in which zone chart data may be obtained from the Postal Service will be updated to reflect current distribution methods. Additionally, DMM G030.3.0 will be deleted because it repeats eligibility information for intra-BMC, inter-BMC, SCF, and delivery unit rates contained in other portions of the DMM.

The Postal Service Official National Zone Chart Data Program is administered from the National Customer Support Center (NCSC) in Memphis, TN. Single-page zone charts for originating mail are available online through Postal Explorer at http://pe.usps.gov. Zone chart data for the entire nation can be purchased in a CD-ROM format. For more information, or to purchase zone charts, call the Zone Chart program administrator at 800-238-3150. The single-page zone chart program available online through Postal Explorer has a link (click on “what's new”) to the updated zone chart data effective on June 30, 2002.

For the reasons stated, the Postal Service adopts the following amendments to the Domestic Mail Manual (DMM), which is incorporated by reference in the Code of Federal Regulations (CFR). See 39 CFR part 111.

List of Subjects in 39 CFR Part 111

Postal Service.

PART 111—[AMENDED]

1. The authority citation for 39 CFR part 111 continues to read as follows:

Authority: 5 U.S.C. 552(a); 39 U.S.C. 101, 401, 403, 404, 414, 3001-3011, 3201-3219, 3403'3406, 3621, 3626, 5001.

2. Amend the following sections of the Domestic Mail Manual as set forth below:

Domestic Mail Manual (DMM)

* * * * *

G General Information

G000 The USPS and Mailing Standards

* * * * *

G030 Postal Zones

Summary

[Amend Summary text by removing the references to BMCs, SCF, and delivery unit zones to read as follows:]

G030 describes how postal zones are used to compute postage for zoned mail. It also defines local and nonlocal zones.

1.0 BASIC INFORMATION

2.1 Basis

[Amend 1.1 by removing the last sentence and adding the following two sentences to read as follows:]

* * * The distance is measured from the center of the unit of area containing the SCF serving the origin post office to the SCF serving the destination post office. The SCFs serving the origin and destination post offices are determined by using L005, Column B.

1.2 Application

[Amend 1.2 by redesignating 1.2a and 1.2b as 1.2b and 1.2c, and inserting new item 1.2a to read as follows:]

Zones are used to compute postage on zoned mail sent between USPS facilities, including military post offices (MPOs), wherever located, as follows:

a. For the purposes of computing postal zone information, except for items 1.2b or 1.2c, the following table applies to MPOs not listed in L005.

3-Digit ZIP Code prefix group | SCF Serving the destination office
090-098 | SCF New York NY 100.
340 | SCF Miami FL 331.
962-966 | SCF San Francisco CA 940.

* * * * *

1.3 Zone Charts

[Amend 1.3 to include updated information on the format of zone chart data available for purchase to read as follows:]

The USPS Official National Zone Chart Data Program is administered from the National Customer Support Center (NCSC) in Memphis, TN. Single-page zone charts for originating mail are available at no cost from local post offices or online at http://pe.usps.gov. Zone chart data for the entire nation can be purchased in a CD--ROM format. For more information or to purchase zone charts, call the Zone Chart program administrator at 800-238-3150 or write to the NCSC (see G043 for address).

* * * * *

2.0 SPECIFIC ZONES

* * * * *

2.1 Nonlocal Zones

Nonlocal zones are defined as follows:

[Amend item 2.2a to read as follows:]

a. The zone 1 rate applies to pieces not eligible for the local zone in 2.1 that are mailed between two post offices with the same 3-digit ZIP Code prefix identified in L005, Column A. Zone 1 includes all units of area outside the local zone lying in whole or in part within a radius of about 50 miles from the center of a given unit of area.

* * * * *

[Remove 3.0 in its entirety.]

* * * * *

This change will be published in a future issue of the Domestic Mail Manual. An appropriate amendment to 39 CFR part 111 to reflect these changes will be published.

Stanley F. Mires,
Chief Counsel, Legislative.

[FR Doc. 02-10363 Filed 4-25-02; 8:45 am]

BILLING CODE 7710-12-P